DEPARTMENT OF COMMERCE

Foreign-Trade Zones Board

[Docket 2-2000]

Foreign-Trade Zone 193-Pinellas County, FL; Application for Subzone Status, Amendment of Application—RP Scherer Corporation (Gelatin Capsules)

Notice is hereby given that the application of the Pinellas County Board of County Commissioners, grantee of FTZ 193, requesting authority for special-purpose subzone status for the gelatin capsule manufacturing facilities of RP Scherer Corporation (Scherer) located in the St. Petersburg/Clearwater area, Pinellas County, Florida (65 FR 5308, 2/3/00), has been amended to expand the proposed use of zone procedures at the Scherer plant to include the manufacture of a new anti-AIDS drug, using foreign and domestic ingredients. The foreign ingredients include Lopinavir (HTSUS 2933.59.7000—9.3% duty rate). The finished product is classified under HTSUS 3004.70.9010 and is duty free. Scherer will be finishing and encapsulating the finished drug under contract for Abbott Laboratories, Inc., which has authority from the FTZ Board to produce the drug under zone procedures at its Chicago, Illinois, plant.

The application remains otherwise unchanged.

The comment period is reopened until June 26, 2000.

Dated: May 17, 2000.
Dennis Puccinelli,
Acting Executive Secretary.

[FR Doc. 00-13098 Filed 5-24-00; 8:45 am]

BILLING CODE 3510-DS-P